DEPARTMENT OF THE TREASURY

Customs Service

Notice of Revocation of Customs Broker Permit

AGENCY: Customs Service, Department of the Treasury.

ACTION: General notice.

SUMMARY: Pursuant to section 641 of the Tariff Act of 1930 as amended (19 U.S.C. 1641) and the Customs Regulations [19 CFR 111.45(b)], the following Customs Broker Permit is revoked by operation of law.

Name | Permit No. | Issuing port
Leschaco, Inc. | 96006 | Los Angeles.

Dated: October 22, 2002.
Jayson P. Ahern,
Assistant Commissioner, Office of Field Operations.

[FR Doc. 02-28252 Filed 11-5-02; 8:45 am]

BILLING CODE 4820-02-P